DEPARTMENT OF THE INTERIOR

Bureau of Land Management

[LLWY922000-L13200000-EL0000]

Powder River Regional Coal Team Activities: Notice of Public Meeting in Casper, Wyoming

AGENCY: Bureau of Land Management, Interior.

ACTION: Notice of public meeting.

SUMMARY: The Powder River Regional Coal Team (RCT) has scheduled a public meeting for June 19, 2013, to review coal management activities in the Powder River Coal Production Region.

DATES: The RCT meeting will begin at 9 a.m. MDT on June 19, 2013. The meeting is open to the public.

ADDRESSES: The meeting will be held at the Wyoming Oil and Gas Conservation Commission Hearing Room, 2211 King Boulevard, Casper, Wyoming.

FOR FURTHER INFORMATION CONTACT: Kathy Muller Ogle, Coal Coordinator, BLM Wyoming State Office, Division of Minerals and Lands, 5353 Yellowstone Road, Cheyenne, Wyoming 82009: Telephone 307-775-6206, or Greg Fesko, Coal Coordinator, BLM Montana State Office, Division of Resources, 5001 Southgate Drive, Billings, Montana 59101: Telephone 406-896-5080.

SUPPLEMENTARY INFORMATION: The purpose of the meeting is to discuss progress in processing pending coal leases by application (LBAs), to vote on a new LBA filing in the Powder River Coal Production Region, and to discuss other Federal coal-related actions in the region. Specific coal-related topics planned for the RCT meeting include:

1. Update on U.S. Geological Survey coal inventory work.

2. Update on progress in processing existing coal LBAs in the Powder River Coal Production Region.

3. Consider and vote on the following new LBA filing in the Powder River Coal Production Region.

• The Spring Creek LBA II Tract was filed by Spring Creek Coal LLC in the BLM Montana State office on February 15, 2013. The LBA will be presented to the RCT for their consideration and vote. The Spring Creek LBA II Tract is adjacent to the Spring Creek Mine located in Big Horn County, Montana. The RCT will vote on a recommendation for the BLM to either process or not process the application.

4. Presentation on potential exchange of Preference Right Lease Applications in New Mexico held by Ark Land Company, for competitive bidding rights in Wyoming, pursuant to 43 CFR part 3435.

5. Discussion on updating the Data Adequacy Standards for the Powder River Coal Region.

6. Update on BLM land use planning efforts in the Powder River Coal Production Region of Wyoming and Montana.

The RCT will also consider any or other coal-related issues that may arise prior to the meeting. During the public meeting the RCT may generate recommendation(s) for any or all of these topics and other topics that may arise prior to the meeting date.

The meeting will serve as a forum for public discussion on Federal coal management issues of concern in the Powder River Coal Production Region. Any party interested in providing comments or data related to existing pending applications, or any party proposing other issues to be considered by the RCT, may either do so in writing to the State Director (922), BLM Wyoming State Office, 5353 Yellowstone Road, Cheyenne, WY 82009, no later than June 6, 2013, or by addressing the RCT with your concerns at the meeting on June 19, 2013.

Following is the draft agenda for the meeting:

1. Introductions

2. Approval of the minutes from the last RCT meeting

3. Speaker on coal resources

4. Coal activity since the last RCT meeting

5. LBA presentations

6. Potential coal bidding rights exchange

7. Updating Data Adequacy Standards for the Powder River Coal Region

7. BLM land use planning update

8. Call for other coal related discussion items

9. Discussion of next meeting

10. Adjourn

Dated: April 12, 2013.
Donald A. Simpson,
State Director.

[FR Doc. 2013-09497 Filed 4-22-13; 8:45 am]

BILLING CODE 4310-22-P